DEPARTMENT OF TRANSPORTATION

Federal Aviation Administration

14 CFR Part 73

[Docket No. FAA-2010-0346; Airspace Docket No. 10-AWP-3]

RIN 2120-AA66

Amendment to Restricted Area R-2510A; El Centro, CA

AGENCY: Federal Aviation Administration (FAA), DOT.

ACTION: Technical amendment.

SUMMARY: In a final rule published in the Federal Register on November 9, 1993, an error was made in the airspace description for Restricted Area R-2510A, El Centro, CA. Specifically, the action inadvertently omitted the reference to nautical miles in the boundaries section of the description. This action corrects that error.

DATES: Effective date 0901 UTC, April 7, 2010.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On November 9, 1993, the FAA published a final rule in the Federal Register (58 FR 27527), Airspace Docket No. 92-AWP-15 entitled “Alteration and Subdivision of Restricted Area R-2510A; El Centro, CA”. That action inadvertently omitted the nautical miles reference in the description. The impact of this action was not apparent until recently, when the U.S. Navy requested clarification of the airspace description. Without reference to nautical miles, the description reads in statute miles. However, the FAA's National Aeronautical Navigation Services office currently charts the airspace in nautical miles. Since this is an administrative change and does not affect the boundaries, altitudes, or operating requirements of the airspace, notice and public comment under 5 U.S.C. 553(b) are unnecessary.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p.389.

§ 73.25 [Amended]

2. § 73.25 is amended as follows:

* * * * *

R-2510A El Centro, CA

Boundaries. Beginning at lat. 32°59′35″ N., long. 115°43′33″ W.; to lat. 32°55′35″ N., long. 115°40′18″ W.; to lat. 32°54′04″ N., long. 115°40′18″ W.; thence counterclockwise along a 4.3-NM mile radius circle centered at lat. 32°49′45″ N., long. 115°40′18″ W.; to lat. 32°50′05″ N., long. 115°45′23″ W.; to lat. 32°50′05″ N., long. 115°55′03″ W.; to lat. 32°55′50″ N., long. 115°55′03″ W.; to lat. 33°01′20″ N., long. 116°02′18″ W.; to lat. 33°06′35″ N., long. 115°56′53″ W.; to lat. 33°06′35″ N., long. 115°51′15″ W.; to the point of beginning.

Designated altitudes. Surface to 15,000 feet MSL.

Time of designation. 0700-2300 local time daily; other times by NOTAM at least 24 hours in advance.

Controlling agency. FAA, Los Angeles ARTCC.

Using agency. Commanding Officer, U.S. Navy Fleet Area Control and Surveillance Facility, San Diego, CA.

Issued in Washington, DC, on April 1, 2010.
Ellen Crum,
Acting Manager, Airspace and Rules Group.

[FR Doc. 2010-7802 Filed 4-6-10; 8:45 am]

BILLING CODE 4910-13-P